DEPARTMENT OF ENERGY

Federal Energy Regulatory Commission

Notice of Staff Attendance at Southwest Power Pool Markets Operations Policy Committee Meeting

The Federal Energy Regulatory Commission hereby gives notice that members of its staff may attend the meeting of the Southwest Power Pool, Inc. (SPP) Markets Operations Policy Committee (MOPC), as noted below. Their attendance is part of the Commission's ongoing outreach efforts.

SPP MOPC

April 12, 2011 (8 a.m.-5 p.m.), April 13, 2011 (8 a.m.-3 p.m.), Doubletree Hotel, 616 West 7th Street, Tulsa, OK 74127, 800-838-7914.

The discussions may address matters at issue in the following proceedings:

Docket No. ER06-451, Southwest Power Pool, Inc.

Docket No. ER08-1419, Southwest Power Pool, Inc.

Docket No. ER09-659, Southwest Power Pool, Inc.

Docket No. ER09-1050, Southwest Power Pool, Inc.

Docket No. OA08-104, Southwest Power Pool, Inc.

Docket No. ER10-696, Southwest Power Pool, Inc.

Docket No. ER10-941, Southwest Power Pool, Inc.

Docket No. ER10-1069, Southwest Power Pool, Inc.

Docket No. ER10-1254, Southwest Power Pool, Inc.

Docket No. ER10-1269, Southwest Power Pool, Inc.

Docket No. ER10-1697, Southwest Power Pool, Inc.

Docket No. ER10-2244, Southwest Power Pool, Inc.

Docket No. ER11-13, Southwest Power Pool, Inc.

Docket No. ER11-2303, Southwest Power Pool, Inc.

Docket No. ER11-2428, Southwest Power Pool, Inc.

Docket No. ER11-2528, Southwest Power Pool, Inc.

Docket No. ER11-2711, Southwest Power Pool, Inc.

Docket No. ER11-2719, Southwest Power Pool, Inc.

Docket No. ER11-2725, Southwest Power Pool, Inc.

Docket No. ER11-2736, Southwest Power Pool, Inc.

Docket No. ER11-2758, Southwest Power Pool, Inc.

Docket No. ER11-2781, Southwest Power Pool, Inc.

Docket No. ER11-2783, Southwest Power Pool, Inc.

Docket No. ER11-2787, Southwest Power Pool, Inc.

Docket No. ER11-2828, Southwest Power Pool, Inc.

Docket No. ER11-2837, Southwest Power Pool, Inc.

Docket No. ER11-2861, Southwest Power Pool, Inc.

Docket No. ER11-2881, Southwest Power Pool, Inc.

Docket No. ER11-2916, Southwest Power Pool, Inc.

These meetings are open to the public.

For more information, contact Patrick Clarey, Office of Energy Market Regulation, Federal Energy Regulatory Commission at (317) 249-5937 or patrick.clarey@ferc.gov.

Dated: April 1, 2011.
Kimberly D. Bose,
Secretary.

[FR Doc. 2011-8305 Filed 4-6-11; 8:45 am]

BILLING CODE 6717-01-P